DEPARTMENT OF LABOR

Employment and Training Administration

[TA-W-38,400]

Potlatch Corporation, Sappi Fine Paper North America Including Temporary Workers of Olsten Temporary Services, Employed at Potlatch Corporation, Cloquet, MN; Amended Certification Regarding Eligibility To Apply for Worker Adjustment Assistance

In accordance with Section 223 of the Trade Act of 1974 (19 U.S.C. 2273) the Department of Labor issued a Certification of Eligibility to Apply for Worker Adjustment Assistance on February 27, 2001, applicable to workers of Potlatch Corporation, Cloquet, Minnesota. The notice was published in the Federal Register on April 5, 2001 (66 FR 18117). The certification was amended on April 13, 2001 to include leased workers of Olsten Temporary Services employed at Potlatch Corporation, Cloquet, Minnesota. The notice was published in the Federal Register on April 19, 2001 (66 FR 20165).

At the request of the petitioners, the Department reviewed the certification for workers of the subject firm. The workers are engaged in the production of wood products, including paper, oxboard, paper board, tissue and two by fours.

The company reports that Sappi Fine Paper North America purchased Potlatch Corporation on May 13, 2002. Information shows that employees separated from Potlatch after the May 13, 2002 selling date, were separated as employees of Sappi Fine Paper and, therefore, were not found eligible for trade adjustment assistance under the current certification covering Potlatch employees.

The intent of the Department's certification is to include all workers of Potlatch Corporation who were adversely affected by increased imports.

Accordingly, the Department is amending the certification determination to properly reflect this matter.

The amended notice applicable to TA-W-38,400 is hereby issued as follows:

All workers of Potlatch Corporation, Sappi Fine Paper North America, including temporary workers of Olsten Temporary Services, Duluth, Minnesota, engaged in the production of wood products, including paper, oxboard, paper board, tissue and two by fours at Potlatch Corporation, Cloquet, Minnesota, who became totally or partially separated from employment on or after November 27, 1999, through February 27, 2003, are eligible to apply for adjustment assistance under Section 223 of the Trade Act of 1974.

Signed at Washington, DC this 26th day of September, 2002.
Linda G. Poole,
Certifying Officer, Division of Trade Adjustment Assistance.

[FR Doc. 02-26750 Filed 10-21-02; 8:45 am]

BILLING CODE 4510-30-P